DEPARTMENT OF LABOR

Employment and Training Administration

[TA-W-57,216]

Gilmour Manufacturing, Division of Robert Bosch Tool Corporation; Somerset, Pennsylvanina; Notice of Termination of Investigation

Pursuant to section 221 of the Trade Act of 1974, as amended, an investigation was initiated on May 19, 2005 in response to a worker petition filed by a company official on behalf of workers at Gilmour Manufacturing, a division of Robert Bosch Tool Corporation in Somerset, Pennsylvania.

The petitioner has requested that the petition be withdrawn. Consequently, the investigation has been terminated.

Signed at Washington, DC this 25th day of May 2005.
Richard Church,
Certifying Officer, Division of Trade Adjustment Assistance.

[FR Doc. E5-3042 Filed 6-10-05; 8:45 am]

BILLING CODE 4510-30-P